DEPARTMENT OF HEALTH AND HUMAN SERVICES

Substance Abuse and Mental Health Services Administration

Center for Substance Abuse Treatment; Notice of Meeting

Pursuant to Pub. L. 92-463, notice is hereby given that the 37th meeting of the Substance Abuse and Mental Health Service Administration's (SAMHSA) Center for Substance Abuse Treatment (CSAT) National Advisory Council will be held in September 2003.

A portion of the meeting is open and includes discussion of the Center's policy issues and current administrative, legislative, and program developments. The Council's meeting will include reports on Proposed Standard Funding Mechanisms; SAMHSA's Competitive Sourcing Activities; Collaboration with other Health and Human Services (HHS) Agencies; Overview of SAMHSA's Center for Substance Abuse Prevention's Programs and Initiatives; National Institute on Drug Abuse's Clinical Trials Network; Methadone Deaths; How Sovereignty Impacts Funding for Native Americans; Partners for Recovery Initiative; and Nicotine/Tobacco Substance Abuse and Mental Health Issues. In addition, the CSAT Director will provide an update on CSAT's program and activities.

The meeting will also include the review, discussion, and evaluation of individual grant applications. Therefore a portion of the meeting will be closed to the public as determined by the SAMHSA Administrator, in accordance with Title 5 U.S.C. 552b (c) and (6) and 5 U.S.C. App. 2, Sec. 10(d).

SAMHSA/CSAT welcomes the attendance of the public at its advisory committee, and will make every effort to accommodate persons with physical disabilities or special needs. If you require special accommodations due to a disability, please inform the contact person at least 7 days in advance of the meeting. Substantive program information, a summary of the meeting and a roster of Council members may also be obtained from the contact person.

Committee Name: Center for Substance Abuse Treatment National Advisory Council.

Meeting Dates: September 16—8:30 a.m.-4:30 p.m.; September 17—8:30 a.m.-12:30 p.m.

Place: Sheraton Four Points Hotel, 8400 Wisconsin Avenue, Bethesda, MD 20814.

Type: Closed: September 16, 2003—8:30 a.m.-10 a.m.; Open: September 16, 2003—10 a.m.-4:30 p.m.; Closed: September 17, 2003—8:30 a.m.-9:30 a.m.; Open: September 17, 2003—9:30 a.m.-12:30 p.m.

FOR FURTHER INFORMATION CONTACT: Cynthia Graham, NAC Executive Secretary, SAMHSA/CSAT NAC, 5600 Fishers Lane, RW II, Ste 619, Rockville, MD 20857, (301) 443-8923, Fax: (301) 480-6077.

Dated: August 21, 2003.
Toian Vaughn,
Committee Management Officer, Substance Abuse and Mental Health Services Administration.

[FR Doc. 03-21979 Filed 8-27-03; 8:45 am]

BILLING CODE 4162-20-P